ENVIRONMENTAL PROTECTION AGENCY

[EPA-HQ-OPP-2016-0345; FRL-9948-04]

Pesticide Maintenance Fee: Notice of Receipt of Requests to Voluntarily Cancel Certain Pesticide Registrations

AGENCY: Environmental Protection Agency (EPA).

ACTION: Notice.

SUMMARY: In accordance with the Federal Insecticide, Fungicide, and Rodenticide Act (FIFRA), EPA is issuing a notice of receipt of requests by registrants to voluntarily cancel certain pesticide registrations. EPA intends to grant these requests at the close of the comment period for this announcement unless the Agency receives substantive comments within the comment period that would merit its further review of the requests, or unless the registrants withdraw its requests. If these requests are granted, any sale, distribution, or use of products listed in this notice will be permitted after the registrations have been cancelled only if such sale, distribution, or use is consistent with the terms as described in the final order.

DATES: Comments must be received on or before January 9, 2017.

ADDRESSES: Submit your comments, identified by docket identification (ID) number EPA-HQ-OPP-2016-0345, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

Submit written withdrawal request by mail to: Information Technology and Resources Management Division (7502P), Office of Pesticide Programs, Environmental Protection Agency, 1200 Pennsylvania Ave. NW., Washington, DC 20460-0001. ATTN: Michael Yanchulis.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Michael Yanchulis, Information Technology and Resources Managment Division (7502P), Office of Pesticide Programs, Environmental Protection Agency, 1200 Pennsylvania Ave. NW., Washington, DC 20460-0001; telephone number: (703) 347-0237; email address: yanchulis.michael@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the agency taking?

This notice announces receipt by the Agency of requests from registrants to cancel 277 pesticide products registered under FIFRA section 3 (7 U.S.C. 136a) or 24(c) (7 U.S.C. 136v(c)). These registrations are listed in sequence by registration number (or company number and 24(c) number) in Table 1 of this unit.

Unless the Agency determines that there are substantive comments that warrant further review of the requests or the registrants withdraw their requests, EPA intends to issue an order in the Federal Register canceling all of the affected registrations.

Table 1—Registrations With Pending Requests for Cancellation
Registration No. | Company No. | Product name | Chemical name
100-1004 | 100 | Demon EC Insecticide | Cypermethrin.
100-1006 | 100 | Probuild TC Termiticide | Cypermethrin.
100-1051 | 100 | Talon-G Rodenticide Bait Pack Pellets with Bitrex | Brodifacoum.
100-1057 | 100 | Talon-G Rodenticide Mini-Pellets with Bitrex | Brodifacoum.
100-1170 | 100 | Optigard ZT Insecticide | Thiamethoxam.
100-1209 | 100 | Abamectin Granular Fire Ant Killer | Abamectin.
100-1249 | 100 | Adage—Maxim 4FS Twinpak | Fludioxonil; Thiamethoxam.
100-1302 | 100 | Cypermethrin ME 2.0% Concentrate | Cypermethrin.
100-1303 | 100 | Cypermethrin ME 0.2% RTU | Cypermethrin.
100-1393 | 100 | Hurricane WDG | Metalaxyl-M; Fludioxonil.
100-1512 | 100 | Econem | Pasteuria Usgae—BL1.
228-380 | 228 | Riverdale 565 Selective Herbicide | Cloransulam-methyl.
264-652 | 264 | Rely Herbicide | Glufosinate.
264-663 | 264 | Remove Herbicide | Glufosinate.
264-932 | 264 | Gustafson Lorsban 30 Flowable | Chlorpyrifos.
432-887 | 432 | Chipco Ronstar 50 WP | Oxadiazon.
432-891 | 432 | Chipco 26019 WDG Fungicide | Iprodione.
432-894 | 432 | Chipco Aliette WSP Brand Fungicide | Fosetyl-Al.
432-898 | 432 | Chipco Ronstar G T/L Herbicide | Oxadiazon.
432-1222 | 432 | Prostar 50WP | Flutolanil.
432-1326 | 432 | Dylox 80 SP Nursery Insecticide | Trichlorfon.
432-1336 | 432 | Bayleton 1% Granular Turf and Sod Production Fungicide | Triadimefon.
432-1340 | 432 | Merit 0.3 G Lawn and Garden Insecticide | Imidacloprid.
432-1341 | 432 | Merit 0.15 G Lawn and Garden Insecticide | Imidacloprid.
432-1342 | 432 | Merit 0.25 G Lawn and Garden Insecticide | Imidacloprid.
432-1343 | 432 | Merit 0.35 G Lawn and Garden Insecticide | Imidacloprid.
432-1420 | 432 | Topchoice Select Insecticide | Fipronil.
432-1423 | 432 | Topchoice 0.0143 Plus Turf Fertilizer Insecticide | Fipronil.
432-1425 | 432 | Topchoice 0.00953 Plus Turf Fertilizer Insecticide | Fipronil.
432-1432 | 432 | Compass G Fungicide | Trifloxystrobin.
432-4877 | 432 | Triticonazole 70 WDG Fungicide | Triticonazole.
498-195 | 498 | Champion Spray on Fire Ant Killer Dust | Deltamethrin.
498-197 | 498 | Spray Disinfectant | Quaternary ammonium compounds; Ethanol.
499-497 | 499 | Whitmire Micro-Gen TC 232 | D-Limonene.
499-519 | 499 | TC 232 W&HH | D-Limonene.
499-20204 | 499 | Babolna Insect Attractant Trap | 2-Cyclopenten-1-one, 2-hydroxy-3-methyl-.
524-314 | 524 | Lasso Herbicide | Alachlor.
524-316 | 524 | Lasso 94% Stabilized Technical | Alachlor.
524-329 | 524 | Lariat Herbicide | Atrazine; Alachlor.
524-344 | 524 | Micro-Tech Herbicide | Alachlor.
524-418 | 524 | Bullet Herbicide | Atrazine; Alachlor.
524-523 | 524 | MON 78746 Herbicide | Quizalofop-p-ethyl; Glyphosate-isopropylammonium.
1448-172 | 1448 | M-5-2 | 2-(Thiocyanomethylthio)benzothiazole; Methylene bis(thiocyanate).
1677-196 | 1677 | Eco 2000-XP Freshbait | Boric acid.
1677-205 | 1677 | A-215 | Glutaraldehyde.
1677-206 | 1677 | A-245 | Glutaraldehyde.
1839-49 | 1839 | CD 3.2 Detergent/Disinfectant | Quaternary ammonium compounds.
1839-50 | 1839 | CD 1.6 Detergent/Disinfectant | Quaternary ammonium compounds.
1839-85 | 1839 | Aerosol Surface Disinfectant | Quaternary ammonium compounds; Isopropyl alcohol.
1839-102 | 1839 | CD 4.5 (D & F) | Quaternary ammonium compounds.
1839-128 | 1839 | BTC 99 | Quaternary ammonium compounds.
1839-138 | 1839 | 10% BTC 99 Industrial Water Cooling Tower Algaecide | Quaternary ammonium compounds.
1839-188 | 1839 | Aerosol SDAS | Quaternary ammonium compounds; Triethylene glycol; Isopropyl alcohol.
3525-71 | 3525 | Utikem Black Algae Killer | Busan 77.
3525-91 | 3525 | Coastal Mint Disinfectant | Quaternary ammonium compounds.
3525-96 | 3525 | Jolt Pool Shock Treatment for Control of Algae | Lithium hypochlorite.
3525-109 | 3525 | Algaecide & Pool Conditioner | Busan 77.
4822-554 | 4822 | AD-SS-06 | Quaternary ammonium compounds.
5383-176 | 5383 | Fungitrol 400SE Fungicide | Carbamic acid, butyl-, 3-iodo-2-propynyl ester.
5383-188 | 5383 | Nuosept 515RX Preservative | 2-Methyl-3(2H)-isothiazolone; 5-Chloro-2-methyl-3(2H)-isothiazolone.
5383-189 | 5383 | Nuosept 220 Preservative | 2,2-Dibromo-3-nitrilopropionamide.
5813-28 | 5813 | Pine-Sol | Pine oil.
5813-33 | 5813 | Clean-O-Pine Cone Concentrated Disinfectant | Pine oil.
5813-36 | 5813 | Pine Sol Cleaner Disinfectant | Pine oil.
5813-41 | 5813 | Clorox Pine Oil | Pine oil.
5813-54 | 5813 | Pine-Sol Cleaner Disinfectant 1 | Pine oil.
5813-56 | 5813 | Pine-Sol Cleaner Disinfectant 6 | Pine oil.
5813-83 | 5813 | Clorox Losenip | Pine oil.
5813-107 | 5813 | Sonic | Sodium hypochlorite.
6836-18 | 6836 | Bardac-22 | Quaternary ammonium compounds.
6836-19 | 6836 | Bardac-20 | Quaternary ammonium compounds.
6836-25 | 6836 | Barquat 4250 | Quaternary ammonium compounds.
6836-28 | 6836 | Lonza Disinfectant Cleaner (19-A) | Quaternary ammonium compounds.
6836-30 | 6836 | Lonza Mildew Preventative | Quaternary ammonium compounds.
6836-41 | 6836 | Lonza Mildew Preventative B-20 | Quaternary ammonium compounds.
6836-48 | 6836 | Bardac 2250-7.5 | Quaternary ammonium compounds.
6836-68 | 6836 | Bardac 20W | Quaternary ammonium compounds.
6836-74 | 6836 | Lonza Formulation S-39 | Quaternary ammonium compounds.
6836-87 | 6836 | Lonza DC-102 Quaternary Pine Oil | Quaternary ammonium compounds; Pine oil.
6836-89 | 6836 | 205M Sanitizer | Quaternary ammonium compounds.
6836-108 | 6836 | Lonza Carpet Sanitizer CS-202 | Quaternary ammonium compounds.
6836-163 | 6836 | Bio-Quat 50-MAB | Quaternary ammonium compounds.
6836-167 | 6836 | Bio Guard M-7 Disinfectant | Quaternary ammonium compounds.
6836-180 | 6836 | Lonza Rd-10 Disinfectant Sanitizer Deodorant | Quaternary ammonium compounds.
6836-201 | 6836 | Barquat MM-55I | Quaternary ammonium compounds.
6836-204 | 6836 | Lonza Formulation DC-110N | Quaternary ammonium compounds.
6836-205 | 6836 | Lonza Formulation DC-108N | Quaternary ammonium compounds.
6836-206 | 6836 | Lonza Formulation DC-109N | Quaternary ammonium compounds.
6836-231 | 6836 | Jordaquat 358 | Quaternary ammonium compounds.
6836-267 | 6836 | Lonza Formulation DCN 400-256 | Quaternary ammonium compounds.
6836-268 | 6836 | Lonza Formulation DCN 400-128 | Quaternary ammonium compounds.
6836-269 | 6836 | Lonza Formulation DCN 400-64 | Quaternary ammonium compounds.
6836-284 | 6836 | Lonza Formula LNZ-64 | Quaternary ammonium compounds; 1,3-Propanediamine, N-(3-aminopropyl)-N-dodecyl-.
7173-293 | 7173 | Chlorophacinone Refillable Bait Station | Chlorophacinone.
10807-162 | 10807 | Misty Fog Plus Fogger | Pyrethrins; Permethrin; Piperonyl butoxide.
10807-200 | 10807 | Misty Repco Kill IV | Bromacil; 2,4-D, 2-ethylhexyl ester.
10807-201 | 10807 | Misty Repco Kill VF | Bromacil; 2,4-D, 2-ethylhexyl ester.
10807-439 | 10807 | R Value's Roach Kil | Boric acid.
10807-440 | 10807 | Mop Up | Boron sodium oxide (B8Na2O13), tetrahydrate (12280-03-4).
10807-441 | 10807 | Borid Sewer Treatment | Borax.
10807-452 | 10807 | Drax Roach D-Stroy Mix | Boric acid.
10807-453 | 10807 | Drax Roach Assault PGF | Boric acid.
10807-455 | 10807 | Borid Barrier with Boric Acid | Boric acid.
10807-456 | 10807 | Impede Roach Bait with Growth Inhibitor Kills and Controls Cockroaches | Pyriproxyfen.
10807-457 | 10807 | Invader II with Propoxur | Propoxur.
10807-458 | 10807 | Drax Liquid Ant Killer—SWT | Boric acid.
10807-459 | 10807 | Drax Liquid Ant Killer with Nylar and Boric Acid | Pyriproxyfen; Boric acid.
10807-460 | 10807 | Drax Ant Kill Gel RBA | Boric acid.
10807-461 | 10807 | Drax Ant Kil Gel 2X RBA | Boric acid.
10807-463 | 10807 | Drax Granular Bait with Boric Acid | Boric acid.
10807-464 | 10807 | Drax 2X Granular Bait with Boric Acid | Boric acid.
10807-465 | 10807 | Drax 2X Granular Bait with Boric Acid & Nylar | Pyriproxyfen; Boric acid.
10807-468 | 10807 | Country Vet Roach Kil | Boric acid.
10807-470 | 10807 | Country Vet Fogger with IGR | Prallethrin; Esfenvalerate, Pyriproxyfen.
10807-471 | 10807 | Country Vet Fogger with Pyrethrins | Pyrethrins; MGK 264; Piperonyl butoxide.
35935-68 | 35935 | Oxadiazon Technical | Oxadiazon.
35935-97 | 35935 | Flumioxazin Technical | Flumioxazin.
40849-59 | 40849 | Enforcer Next Day Grass & Weed Killer Concentrate | Diquat dibromide.
47371-47 | 47371 | FMB 210-8 Quat | Quaternary ammonium compounds.
47371-52 | 47371 | HS-210 Mildew Preventative | Quaternary ammonium compounds.
47371-53 | 47371 | Formulation HS 210-15 | Quaternary ammonium compounds.
47371-59 | 47371 | FMB 210-100 Quat Concentrated Germicide | Quaternary ammonium compounds.
47371-71 | 47371 | Huntington FMB 302-8 QUAT Concentrated Germicide | Quaternary ammonium compounds.
47371-87 | 47371 | TB-A32 Disinfectant Bowl Cleaner | Quaternary ammonium compounds; Hydrochloric acid.
66222-32 | 66222 | Mana Cotoran 4l | Fluometuron.
66222-65 | 66222 | Apollo 42% Ovicide/Miticide | Clofentezine.
66330-260 | 66330 | Flomet 4L | Fluometuron.
67619-15 | 67619 | Needle | Pine oil.
67619-19 | 67619 | Snip | Pine oil.
69681-30 | 69681 | Clor Mor Spa Essence Tabs | Sodium dichloro-s-triazinetrione.
70596-12 | 70596 | Mecoprop-P Technical Acid | Mecoprop-P.
81880-13 | 81880 | NC-398 WG | Halosulfuron-methyl; Dicamba, sodium salt.
81880-14 | 81880 | Achiva Herbicide | Halosulfuron-methyl.
81880-17 | 81880 | NC-319 75WG T | Halosulfuron-methyl.
81880-19 | 81880 | MON 12037 Herbicide | Halosulfuron-methyl.
81880-21 | 81880 | MON 12000 Herbicide | Halosulfuron-methyl.
81880-22 | 81880 | Sempra CA Herbicide | Halosulfuron-methyl.
81880-23 | 81880 | GWN-9843 | Halosulfuron-methyl.
81927-15 | 81927 | Alligare Picloram + D RTU | Picloram, triisopropanolamine salt; 2,4-D, triisopropanolamine salt.
81927-17 | 81927 | Alligare Picloram K | Picloram-potassium.
81927-21 | 81927 | Alligare Quinclorac 75 WDG | Quinclorac.
90924-6 | 90924 | Bactron K-55W Microbiocide | Formaldehyde.
AL080004 | 59639 | Sumagic Plant Growth Regulator | Uniconazole P.
AR030011 | 100 | Dual Magnum Herbicide | S-Metolachlor.
AR050006 | 66222 | Bifenthrin Nursery G | Acephate.
AR130007 | 100 | Halex GT Herbicide | Mesotrione; Glyphosate; S-Metolachlor.
AR140001 | 87290 | Willowood Clomazone 3ME | Clomazone.
AR830015 | 400 | Comite Agricultural Miticide | Propargite.
AR930004 | 59639 | Select 2EC Herbicide | Clethodim.
CA030012 | 100 | Clinch Ant Bait | Abamectin.
CA040004 | 62719 | Lorsban 50W Insecticide In Water Soluble Packets | Chlorpyrifos.
CA040024 | 8033 | Topsin M WSB | Thiophanate-methyl.
CA050015 | 62719 | GF-120 NF Naturalyte Fruit Fly Bait | Spinosad.
CA050020 | 8033 | Topsin M 70WP | Thiophanate-methyl.
CA060008 | 2935 | Wilbur-Ellis Dusting Sulfur | Sulfur.
CA060013 | 62719 | Intrepid 2F | Methoxyfenozide.
CA070013 | 21164 | Akta Klor 25 | Sodium chlorite.
CA140001 | 70506 | Manzate Pro-Stick Fungicide | Mancozeb.
CA140003 | 70506 | Penncozeb 4FL Flowable Fungicide | Mancozeb.
CA960027 | 50534 | Bravo 720 | Chlorothalonil.
CA990010 | 62719 | Transline | Clopyralid, monoethanolamine salt.
CO100005 | 59639 | Chateau Herbicide WDG | Flumioxazin.
CT070001 | 62719 | Dithane DF Rainshield | Mancozeb.
CT070002 | 62719 | Goal 2XL | Oxyfluorfen.
DE090001 | 2724 | Zoecon Altosid Liquid Larvicide Concentrate | S-Methoprene.
DE100001 | 62719 | Starane Ultra | Fluroxypyr 1-methylheptyl ester.
FL030002 | 59639 | Regiment Herbicide | Bispyribac-sodium.
FL110001 | 59639 | Arena 50 WDG Insecticide | Clothianidin.
FL140008 | 100 | Revus Fungicide | Mandipropamide Technical.
GA020006 | 59639 | Regiment Herbicide | Bispyribac-sodium.
GA940004 | 62719 | Dithane DF Agricultural Fungicide | Mancozeb.
HI080003 | 61842 | Lime-Sulfur Solution | Lime sulfur.
ID020006 | 8033 | Topsin M WSB | Thiophanate-methyl.
ID080003 | 71711 | Moncut 70 DF Fungicide | Flutolanil.
ID090009 | 66222 | Abba 0.15EC | Abamectin.
ID100002 | 59639 | Chateau WDG Herbicide | Flumioxazin.
ID150007 | 62719 | Transform WG | Sulfoxaflor.
ID980010 | 2935 | Supreme Oil | Mineral oil.
IL110002 | 89459 | Prentox Synpren-Fish Toxicant | Piperonyl butoxide; Rotenone; Cube Resins other than rotenone.
IN080002 | 70506 | Dupont Manzate Pro-Stick Fungicide | Mancozeb.
IN960003 | 62719 | Dithane DF Agricultural Fungicide | Mancozeb.
KS050007 | 34704 | Atrazine 4L Herbicide | Atrazine.
KS150001 | 100 | Halex GT Herbicide | Mesotrione; Glyphosate; S-Metolachlor.
KY030002 | 62719 | Dithane DF Rainshield | Gas cartRidge; Mancozeb.
KY080001 | 70506 | Dupont Manzate Pro-Stick Fungicide | Mancozeb.
LA070007 | 62719 | Goal 2XL | Oxyfluorfen.
LA070008 | 62719 | Goal 2XL | Oxyfluorfen.
LA110001 | 66222 | Galigan 2E | Oxyfluorfen.
LA130001 | 100 | Halex GT Herbicide | Mesotrione; Glyphosate; S-Metolachlor.
LA140003 | 87290 | Willowood Clomazone 3ME | Clomazone.
LA150003 | 100 | Halex GT Herbicide | Mesotrione; Glyphosate; S-Metolachlor.
LA990012 | 59639 | Select 2EC Herbicide | Clethodim.
MA020003 | 62719 | Dithane DF Rainshield | Mancozeb.
MA080001 | 70506 | Dupont Manzate Pro-Stick Fungicide | Mancozeb.
MD090004 | 2724 | Zoecon Altosid Liquid Larvicide Concentrate | S-Methoprene.
MD950002 | 62719 | Dithane DF Rainshield | Mancozeb.
ME130004 | 81880 | GWN-1715 | Pyridaben.
MN000004 | 100 | Aatrex 4L Herbicide | Atrazine.
MN080004 | 8033 | Topsin M WSB | Thiophanate-methyl.
MN080011 | 59639 | Sureguard Herbicide | Flumioxazin.
MO100004 | 89459 | Prentox Prenfish Toxicant | Rotenone; Cube Resins other than rotenone.
MO140003 | 87290 | Willowood Clomazone 3ME | Clomazone.
MO150002 | 100 | Halex GT Herbicide | Mesotrione; Glyphosate; S-Metolachlor.
MO950004 | 62719 | Dithane DF Rainshield | Mancozeb.
MO970003 | 59639 | Select 2EC Herbicide | Clethodim.
MS020016 | 62719 | Goal 2XL Herbicide | Oxyfluorfen.
MS140004 | 87290 | Willowood Clomazone 3ME | Clomazone.
MS830024 | 400 | Comite Agricultural Miticide | Propargite.
MS930008 | 59639 | Select 2EC Herbicide | Clethodim.
MT070002 | 10163 | Onager Miticide | Hexythiazox.
NC020002 | 62719 | Goal 2XL Herbicide | Oxyfluorfen.
NC020005 | 62719 | Dithane DF Rainshield | Mancozeb.
NC020006 | 59639 | Select 2EC Herbicide | Clethodim.
NC120007 | 100 | Gramoxone SL 2.0 | Paraquat dichloride.
NV020003 | 62719 | Goal 2XL Herbicide | Oxyfluorfen.
NV070001 | 10163 | Onager Miticide | Hexythiazox.
NV100002 | 59639 | Chateau Herbicide WDG | Flumioxazin.
NY050001 | 100 | Dual Magnum | S-Metolachlor.
NY070002 | 8033 | Topsin M WSB | Thiophanate-methyl.
NY090001 | 61842 | Whitecap SC Aquatic Herbicide | Fluridone.
NY090004 | 100 | Dual Magnum Herbicide | S-Metolachlor.
NY140002 | 352 | Dupont Aproach Fungicide | Picoxystrobin.
OK100001 | 8033 | F4688 50 WSP Insecticide Termiticide | Acetamiprid; Bifenthrin.
OK150004 | 100 | Halex GT Herbicide | Mesotrione; Glyphosate; S-Metolachlor.
OR020024 | 62719 | Goal 2XL Herbicide | Oxyfluorfen.
OR020025 | 62719 | Goal 2XL Herbicide | Oxyfluorfen.
OR020026 | 62719 | Goal 2XL Herbicide | Oxyfluorfen.
OR070008 | 10163 | Onager Miticide | Hexythiazox.
OR070023 | 71512 | Beleaf 50SG Insecticide | Flonicamid.
OR080021 | 66222 | Abba 0.15EC | Abamectin.
OR080035 | 100 | Callisto Herbicide | Mesotrione.
OR090023 | 66222 | Prometryn 4L | Prometryn.
OR100010 | 100 | Callisto Herbicide | Mesotrione.
OR110001 | 87290 | Willowood Pronamide 50 WSP | Propyzamide.
OR110002 | 87290 | Willowood Pronamide 50 WSP | Propyzamide.
OR110010 | 87290 | Willowood Oxyflo 2 EC | Oxyfluorfen.
OR110011 | 87290 | Willowood Oxyflo 2 EC | Oxyfluorfen.
OR150010 | 62719 | Transform WG | Sulfoxaflor.
OR990006 | 62719 | Goal 2XL Herbicide | Oxyfluorfen.
OR990010 | 2935 | Supreme Oil | Mineral oil.
OR990036 | 62719 | Goal 2XL Herbicide | Oxyfluorfen.
PA950005 | 62719 | Dithane DF Rainshield | Mancozeb.
PA960005 | 62719 | Goal 2XL Herbicide | Oxyfluorfen.
SC030001 | 59639 | Velocity Herbicide | Bispyribac-sodium.
SC030002 | 62719 | Dithane DF Rainshield | Mancozeb.
SC050004 | 100 | Caparol 4L | Prometryn.
SC070001 | 70506 | Clopyr AG Herbicide | Clopyralid, monoethanolamine salt.
SC130002 | 66222 | Mana Atrazine 90DF | Atrazine.
SC960008 | 62719 | Goal 2XL Herbicide | Oxyfluorfen.
SD090003 | 241 | Pendulum 0.86% Plus Fertilizer | Pendimethalin.
SD090009 | 100 | Princep 4L | Simazine.
SD090010 | 100 | Princep Caliber 90 Herbicide | Simazine.
SD100001 | 7969 | Sharpen Herbicide | Saflufenacil.
SD110001 | 7969 | Integrity Powered By Kixor Herbicide | Saflufenacil; Dimethenamide-P.
TN050007 | 100 | Caparol 4L | Prometryn.
TX030014 | 59639 | Velocity Herbicide | Bispyribac-sodium.
TX090008 | 39039 | 4-Poster-Tickicide | Permethrin.
TX100019 | 70506 | Devrinol 50-DF Selective Herbicide | Napropamide.
TX140001 | 87290 | Willowood Clomazone 3ME | Clomazone.
TX830028 | 400 | Comite Agricultural Miticide | Propargite.
UT040001 | 89459 | Prentox Perm-X UL 4-4 | Permethrin; Piperonyl butoxide.
UT050003 | 89459 | Prentox Perm-X UL 30-30 | Permethrin; Piperonyl butoxide.
VA080003 | 8033 | Topsin M WSB | Thiophanate-methyl.
VA940001 | 62719 | Dithane DF Agricultural Fungicide | Mancozeb.
WA020027 | 62719 | Goal 2XL Herbicide | Oxyfluorfen.
WA040036 | 62719 | Goal 2XL | Oxyfluorfen.
WA060009 | 8033 | Tristar 30 SG Insecticide | Acetamiprid.
WA060015 | 62719 | Accord Concentrate | Glyphosate-isopropylammonium.
WA060021 | 10163 | Onager 1E | Hexythiazox.
WA070005 | 59639 | Chateau Herbicide WDG | Flumioxazin.
WA080004 | 66222 | Abba 0.15EC | Abamectin.
WA080008 | 62719 | Starane Ultra | Fluroxypyr 1-methylheptyl ester.
WA080010 | 62719 | Rally 40WSP | Myclobutanil.
WA090018 | 66222 | Prometryn 4L | Prometryn.
WA980023 | 2935 | Supreme Oil | Mineral oil.
WI070009 | 8033 | Topsin M WSB | Thiophanate-methyl.
WY040003 | 7969 | Basagran Herbicide | Sodium bentazon.

Table 2 of this unit includes the names and addresses of record for all registrants of the products in Table 1 of this unit, in sequence by EPA company number. This number corresponds to the first part of the EPA registration numbers of the products listed in this unit.

Table 2—Registrants Requesting Voluntary Cancellation
EPA Company No. | Company name and address
100 | Syngenta Crop Protection, LLC, P.O. Box 18300, Greensboro, NC 27419.
228 | Nufarm Americas, Inc., 4020 Aerial Center Parkway, Suite 101, Morrisville, NC 27560.
241 | BASF Corporation, P.O. Box 13528, Research Triangle Park, NC 27709.
264 | Bayer Cropscience LP, P.O. Box 12014, Research Triangle Park, NC 27709.
352 | E. I. Du Pont de Nemours and Company, Chestnut Run Plaza, 974 Centre Road Wilmington, DE 19805.
400 | MacDermid Agricultural Solutions, Inc., 245 Freight Street, Waterbury, CT 06702.
432 | Bayer Environmental Science, A Division of Bayer Cropscience LP, P.O. Box 12014, Research Triangle Park, NC 27709.
498 | Chase Products Co., P.O. Box 70, Maywood, IL 60153.
499 | BASF Corporation, P.O. Box 13528, Research Triangle Park, NC 27709.
524 | Monsanto Company, 1300 I Street NW., Suite 450 East, Washington, DC 20005.
1448 | Buckman Laboratories Inc., 1256 North McLean Blvd., Memphis, TN 38108.
1677 | Ecolab, Inc., 370 North Wabasha Street, St. Paul, MN 55102.
1839 | Stepan Company, 22 W. Frontage Road, Northfield, IL 60093.
2724 | Wellmark International, 1501 E. Woodfield Road, Suite 200 West, Schaumburg, IL 60173.
2935 | Wilbur-Ellis Company, 2903 S. Cedar Avenue, Fresno, CA 93725.
3525 | Qualco Inc., 225 Passaic Street, Passaic, NJ 07055.
4822 | S. C. Johnson & Son, Inc., 1525 Howe Street, Racine, WI 53403.
5383 | Troy Chemical Corp., 8 Vreeland Road, Florham Park, NJ 07932.
5813 | The Clorox Co., c/o PS&RC, P.O. Box 493, Pleasanton, CA 94566.
6836 | Lonza Inc., 90 Boroline Road, Allendale, NJ 07401.
7173 | Liphatech, Inc., 3600 W. Elm Street, Milwaukee, WI 53209.
7969 | BASF Corporation, Agricultural Products, P.O. Box 13528, Research Triangle Park, NC 27709.
8033 | Nisso America, Inc., Agent for Nippon Soda Co., Ltd., 88 Pine Street, 14th Floor, New York, NY 10005.
10163 | Gowan Company, P.O. Box 5569, Yuma, AZ 85366.
10807 | ZEP, Inc., c/o Compliance Services, Agent for AMREP, Inc., 1529 Seaboard Industrial Blvd., NW, Atlanta, GA 30318.
21164 | Basic Chemicals Company, LLC 5005 LBJ Freeway, Dallas, TX 75244.
34704 | Loveland Products, Inc., P.O. Box 1286, Greeley, Co 80632.
35935 | Nufarm Americas Inc., 4020 Aerial Center Parkway, Suite 101, Morrisville, NC 27560.
39039 | Y-Tex Corporation, 1825 Big Horn Avenue, Cody, WY 82414.
40849 | ZEP, Inc., c/o Compliance Services, Agent for ZEP Commerical Sales & Service, 1529 Seaboard Industrial Blvd., NW, Atlanta, GA 30318.
47371 | H&S Chemicals Division, c/o Lonza Inc., 90 Boroline Road, Allendale, NJ 07401.
50534 | GB Biosciences Corporation, P.O. Box 18300, Greensboro, NC 27419.
59639 | Valent U.S.A. Corporation, 1600 Riviera Avenue, Suite 200, Walnut Creek, CA 94596.
61842 | Pyxis Regulatory Consulting, Inc., Agent for Tessenderlo Kerley, Inc., 4110 136th Street CT NW, Gig Harbor, WA 98332.
62719 | Dow Agrosciences LLC, 9330 Zionsville Road, Indianapolis, IN 46268.
66222 | Makhteshim Agan of North America, Inc., D/B/A Adama, 3120 Highwoods Blvd., Suite 100, Raleigh, NC 27604.
66330 | Arysta Lifescience North America, LLC, 15401 Weston Parkway, Suite 150, Cary, NC 27513.
67619 | Clorox Professional Products Company, c/o PS&RC, P.O. Box 493, Pleasanton, CA 94566.
69681 | Allchem Performance Products, Inc., 6010 NW First Place, Gainesville, FL 32607.
70506 | United Phosphorus, Inc., 630 Freedom Business Center, Suite 402, King Of Prussia, PA 19406.
70596 | Nufarm Americas, Inc., 4020 Aerial Center Parkway, Suite 101, Morrisville, NC 27560.
71512 | ISK Biosciences Corporation, 7470 Auburn Road, Suite A, Concord, OH 44077.
71711 | Nichino America, Inc., 4550 New Linden Hill Road, Suite 501, Wilmington, DE 19808.
81880 | Canyon Group LLC, c/o Gowan Company, 370 S. Main Street, Yuma, AZ 85364.
81927 | Pyxis Regulatory Consulting, Inc., Agent for Alligare, LLC, 4110 136th Street CT NW, Gig Harbor, WA 98332.
87290 | Wagner Regulatory Associates, Inc., Agent for Willowood, LLC, P.O. Box 640, Hockessin, DE 19707.
89459 | Central Garden & Pet Company, 1501 E. Woodfield Road, Suite 200 West, Schaumburg, IL 60173.
90924 | Ecolab, Inc., Agent for Nalco Champion, 370 North Wabasha Street, St. Paul, MN 55102.

III. What is the agency's authority for taking this action?

Section 6(f)(1) of FIFRA (7 U.S.C. 136d(f)(1)) provides that a registrant of a pesticide product may at any time request that any of its pesticide registrations be canceled. FIFRA further provides that, before acting on the request, EPA must publish a notice of receipt of any such request in the Federal Register. EPA will provide a 180-day comment period on the proposed requests. Thereafter, the EPA Administrator may approve such a request.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action. Because the Agency has identified no significant potential risk concerns associated with these pesticide products, upon cancellation of the products identified in Table 1 of Unit II., EPA anticipates allowing registrants to sell and distribute existing stocks of these products until January 15, 2017. Thereafter, registrants will be prohibited from selling or distributing the pesticides identified in Table 1 of Unit II., except for export consistent with FIFRA section 17 or for proper disposal. Persons other than registrants will generally be allowed to sell, distribute, or use existing stocks until such stocks are exhausted, provided that such sale, distribution, or use is consistent with the terms of the previously approved labeling on, or that accompanied, the canceled products.

Authority: 7 U.S.C. 136 et seq.

Dated: June 28, 2016.
Delores Barber,
Acting Director, Information Technology and Resources Management Division, Office of Pesticide Programs.

[FR Doc. 2016-16447 Filed 7-11-16; 8:45 am]

BILLING CODE 6560-50-P